SMALL BUSINESS ADMINISTRATION

13 CFR Part 121

Small Business Size Standards Waiver of the Nonmanufacturer Rule

AGENCY: Small Business Administration.

ACTION: Notice of intent to grant a waiver of the nonmanufacturer rule for hand and edge tool manufacturing.

SUMMARY: The U.S. Small Business Administration (SBA) is considering granting a waiver of the Nonmanufacturer Rule for Hand and Edge Tool Manufacturing. The basis for waivers is that no small business manufacturers are supplying these classes of products to the Federal Government. The effect of a waiver would be to allow otherwise qualified regular dealers to supply the products of any domestic manufacturer on a Federal contract set aside for small businesses or awarded through the SBA 8(a) Program. The purpose of this notice is to solicit comments and potential source information from interested parties.

DATES: Comments and sources must be submitted on or before September 9, 2002.

ADDRESS COMMENTS TO: Edith Butler, Program Analyst, U.S. Small Business Administration, 409 3rd Street, SW., Washington DC, 20416, Tel: (202) 619-0422.

FOR FUTHER INFORMATION CONTACT: Edith Butler, Program Analyst, (202) 619-0422 FAX (202) 205-7280.

SUPPLEMENTARY INFORMATION: Public Law 100-656, enacted on November 15, 1988, incorporated into the Small Business Act the previously existing regulation that recipients of Federal contracts set aside for small businesses or SBA 8(a) Program procurement must provide the product of a small business manufacturer or processor, if the recipient is other than the actual manufacturer or processor. This requirement is commonly referred to as the Nonmanufacturer Rule. The SBA regulations imposing this requirement are found at 13 CFR 121.406 (b). Section 303(h) of the law provides for waiver of this requirement by SBA for any “class of products” for which there are no small business manufacturers or processors in the Federal market.

To be considered available to participate in the Federal market on these classes of products, a small business manufacturer must have submitted a proposal for a contract solicitation or received a contract from the Federal Government within the last 24 months.

The SBA defines “class of products” based on six digit coding systems. The first coding system is the Office of Management and Budget North American Industry Classification System (NAICS). The second is the Product and Service Code established by the Federal Procurement Data System.

This notice proposes to grant A Waiver of the Nonmanufacturer Rule for hand and edge tool manufacturing, North American Industry Classification System (NAICS) 332212. The public is invited to comment or provide source information to SBA on the proposed waiver of the nonmanufacturer rule for hand and edge tool manufacturing, and provide information on potential small business manufacturers for these products.

In an effort to identify potential small business manufacturers, the SBA has searched the Procurement Marketing & Access Network (PRO-Net) and the SBA will publish a notice in the Federal Register. The public is invited to comment or provide source information to SBA on the proposed waiver of the Nonmanufacturer Rule for these classes of products.

Linda G. Williams,
Associate Administrator for Government Contracting.

[FR Doc. 02-21894 Filed 8-27-02; 8:45 am]

BILLING CODE 8025-01-P